DEPARTMENT OF LABOR

Office of Workers' Compensation Programs

20 CFR Parts 1 and 30

RIN 1215-AB51

Performance of Functions; Claims for Compensation Under the Energy Employees Occupational Illness Compensation Program Act of 2000, as Amended

AGENCY: Office of Workers' Compensation Programs, Employment Standards Administration, Labor.

ACTION: Interim final rule; compliance with information collection requirements.

SUMMARY: The Office of Workers' Compensation Programs (OWCP) is announcing that a revision of a currently approved collection of information has been approved by the Office of Management and Budget (OMB), under the Paperwork Reduction Act of 1995, for the Energy Employees Occupational Illness Compensation Program Act of 2000, as amended. This notice announces both the OMB approval number and expiration date for this collection of information.

DATES: Effective Date: The interim final rule published at 70 FR 33590 continues to be effective as of June 8, 2005.

Compliance Date: As of July 18, 2005, affected parties must comply with the new information collection requirements in §§ 30.102, 30.231, 30.232, 30.806, 30.905 and 30.907 of the interim final rule, which have been approved as a revision of a currently approved collection by OMB under the Paperwork Reduction Act of 1995 (PRA), 44 U.S.C. 3501 et seq.

FOR FURTHER INFORMATION CONTACT: Shelby Hallmark, Director, Office of Workers' Compensation Programs, Employment Standards Administration, U.S. Department of Labor, Room S-3524, 200 Constitution Avenue, NW., Washington, DC 20210. Telephone: 202-693-0036 (this is not a toll-free number).

SUPPLEMENTARY INFORMATION: On June 8, 2005, OWCP published an interim final rule governing its administration of the Energy Employees Occupational Illness Compensation Program Act of 2000, as amended (EEOICPA), 42 U.S.C. 7384 et seq., and requested OMB approval under the PRA of a revision of a currently approved collection for the EEOICPA. The new information collection requirements that needed OMB approval are found in §§ 30.102, 30.231, 30.232, 30.806, 30.905 and 30.907 of the interim final rule.

On June 20, 2005, OMB approved the requested revision to a currently approved collection for the EEOICPA. This particular collection now consists of the following forms/reporting requirements: EE-1, Claim for Benefits Under the Energy Employees Occupational Illness Compensation Program Act; EE-2, Claim for Survivor Benefits Under the Energy Employees Occupational Illness Compensation Program Act; EE-3, Employment History for a Claim Under the Energy Employees Occupational Illness Compensation Program Act; EE-4, Employment History Affidavit for a Claim Under the Energy Employees Occupational Illness Compensation Program Act; EE-7, Medical Requirements Under the Energy Employees Occupational Illness Compensation Program Act; EE-8, letter to claimant requesting information for lung cancer claim; EE-9, letter to claimant requesting information for skin cancer claim; EE-10, Claim for Additional Wage-Loss and/or Impairment Under the Energy Employees Occupational Illness Compensation Program Act; EE-20, letter requesting information needed to pay benefits on an accepted claim; 20 CFR 30.106, employment information requested from an alternate source; 20 CFR 30.112, supplemental employment evidence required when an alleged employment history cannot be verified; 20 CFR 30.207, 30.215, 30.222, 30.226 and 30.232(c), supplemental medical evidence required to establish that an injury, illness or disability was sustained as a consequence of either an occupational illness under Part B of EEOICPA or a covered illness under Part E of EEOICPA; 20 CFR 30.806, alternate evidence of wage-loss; and 20 CFR 30.905 and 30.907, medical evidence required to establish compensable permanent impairment.

The control number assigned to this information collection by OMB is 1215-0197. The approval for this information collection will expire on August 31, 2007.

Signed at Washington, DC, this 11th day of July, 2005.
Shelby Hallmark,
Director, Office of Workers' Compensation Programs, Employment Standards Administration.

[FR Doc. 05-14020 Filed 7-15-05; 8:45 am]

BILLING CODE 4510-CR-P